DEPARTMENT OF TRANSPORTATION

Federal Aviation Administration

Noise Exposure Map Notice, Fort Lauderdale Executive Airport, Fort Lauderdale, FL

AGENCY: Federal Aviation Administration, DOT.

ACTION: Notice.

SUMMARY: The Federal Aviation Administration (FAA) announces its determination that the Noise Exposure Maps submitted by the City of Fort Lauderdale for the Fort Lauderdale Executive Airport under the provisions of 49 U.S.C. 47501 et seq. (Aviation Safety and Noise Abatement Act) and 14 CFR part 150 are in compliance with applicable requirements.

DATES: Effective Date: The effective date of the FAA's determination on the noise exposure maps is August 7, 2015.

FOR FURTHER INFORMATION CONTACT: Allan Nagy, Federal Aviation Administration, Orlando Airports District Office, 5950 Hazeltine National Drive, Suite 400, Orlando, FL, 32822, (407) 813-6331.

SUPPLEMENTARY INFORMATION: This notice announces that the FAA finds that the Noise Exposure Maps submitted for Fort Lauderdale Executive Airport are in compliance with applicable requirements of Title 14 Code of Federal Regulations (CFR) Part 150, effective August 7, 2015. Under 49 U.S.C. 47503 of the Aviation Safety and Noise Abatement Act (the Act), an airport operator may submit to the FAA Noise Exposure Maps which meet applicable regulations and which depict non-compatible land uses as of the date of submission of such maps, a description of projected aircraft operations, and the ways in which such operations will affect such maps. The Act requires such maps to be developed in consultation with interested and affected parties in the local community, government agencies, and persons using the airport. An airport operator who has submitted Noise Exposure Maps that are found by FAA to be in compliance with the requirements of 14 CFR part 150, promulgated pursuant to the Act, may submit a Noise Compatibility Program for FAA approval which sets forth the measures the airport operator has taken or proposes to take to reduce existing non-compatible uses and prevent the introduction of additional non-compatible uses.

The FAA has completed its review of the Noise Exposure Maps and accompanying documentation submitted by the City of Fort Lauderdale. The documentation that constitutes the “Noise Exposure Maps” as defined in 14 CFR § 150.7 includes: Section 4; Section 5; Figure 3.1— Permanent Noise Monitor Locations; Figure 4.1— 2015 Existing Conditions Noise Exposure Map; Figure 4.2— 2020 Five—Year Forecast Conditions Noise Exposure Map; Figure 4.3— Comparison of DNL Contours for 2015 Existing Conditions and 2002 Existing Conditions from the 2002 Part 150 Study; Figure 4.4— Airport Layout for Fort Lauderdale Executive Airport; Figure 4.5— Comparison of Jet Arrival Model Tracks to Radar Sample; Figure 4.6— Comparison of Jet Departure Model Tracks to Radar Sample; Figure 4.7— Comparison of Propeller Arrival Model Tracks to Radar Sample; Figure 4.8— Comparison of Propeller Departure Model Tracks to Radar Sample; Figure 4.9— Comparison of Pattern Model Tracks to Radar Sample; Figure 4.10— Comparison of Helicopter Model Tracks to Radar Sample; Table 1.1— Part 150 Noise Exposure Map Checklist; Table 2.1— Part 150 Noise/Land Use Compatibility Guidelines; Table 4.1— 2015 and 2020 NEM Operation by Aircraft Category; Table 4.2— 2015 Existing Conditions Average Annual Day Operations; Table 4.3— Forecast 2020 Average Annual Day Operations; Table 4.4— Estimated Existing and Future Run—up Operations; Table 4.5— Runway Dimensions; Table 4.6— Runway Use; Table 4.7— Arrival Track Utilization; Table 4.8— Departure Track Utilization; Table 4.9— Pattern Track Utilization; Table 4.10— Arrival Helicopter Track Utilization, and Table 4.11— Departure Helicopter Track Utilization. The FAA has determined that these Noise Exposure Maps and accompanying documentation are in compliance with applicable requirements. This determination is effective on August 7, 2015.

FAA's determination on the airport operator's Noise Exposure Maps is limited to a finding that the maps were developed in accordance with the procedures contained in Appendix A of 14 CFR part 150. Such determination does not constitute approval of the airport operator's data, information or plans, or a commitment to approve a Noise Compatibility Program or to fund the implementation of that Program. If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under 14 CFR part 150 or through FAA's review of Noise Exposure Maps. Therefore, the responsibility for the detailed overlaying of noise exposure contours onto the map depicting properties on the surface rests exclusively with the airport operator that submitted those maps, or with those public agencies and planning agencies with which consultation is required under Section 47503 of the Act. The FAA has relied on the certification by the airport operator, under 14 CFR § 150.21, that the statutorily required consultation has been accomplished.

Copies of the full Noise Exposure Maps documentation and of the FAA's evaluation of the maps are available for examination by appointment at the following locations:

Federal Aviation Administration, Orlando Airports District Office, 5950 Hazeltine National Drive, Suite 400, Orlando, FL, 32822.

To arrange an appointment to review the documents and any questions may be directed to the individual named above under the heading, FOR FURTHER INFORMATION CONTACT.

Issued in Orlando, FL on August 7, 2015.
Bart Vernace,
Manager, Orlando Airports District Office.

[FR Doc. 2015-19954 Filed 8-12-2015; 8:45 am]

BILLING CODE 4910-13-P